DEPARTMENT OF THE INTERIOR

Fish and Wildlife Service

Proposed Candidate Conservation Agreement With Assurances for Fisher for the Stirling Management Area, Sierra Pacific Industries, Butte, Plumas, and Tehama Counties, CA

AGENCY: Fish and Wildlife Service, Interior.

ACTION: Notice of availability; receipt of application.

SUMMARY: Sierra Pacific Industries (Applicant) has applied to the U.S. Fish and Wildlife Service (Service) for a 20-year enhancement of survival permit for the fisher (Martes pennanti) pursuant to section 10(a)(1)(A) of the Endangered Species Act of 1973, as amended (Act). The permit application includes a proposed Candidate Conservation Agreement with Assurances (Agreement) between the Applicant and the Service for the fisher on the 160,000 acre Stirling Management Area in Butte, Plumas, and Tehama Counties, California.

We are requesting comments on the permit application, the proposed Agreement and on the preliminary determination that the proposed Agreement is eligible for a categorical exclusion under the National Environmental Policy Act (NEPA) of 1969, as amended. The basis for this determination is discussed in the Environmental Action Statement (EAS) and the associated Screening Form, which are also available for public review.

DATES: Written comments should be received on or before November 9, 2007.

ADDRESSES: Comments should be addressed to the Field Supervisor, U. S. Fish and Wildlife Service, Yreka Fish and Wildlife Office, 1829 South Oregon Street, Yreka, California 96097. Written comments may be sent by facsimile to (530) 842-4517.

FOR FURTHER INFORMATION CONTACT: Ms. Laura Finley, Fish and Wildlife Biologist, Yreka Fish and Wildlife Office (see ADDRESSES); telephone: (530) 842-5763.

SUPPLEMENTARY INFORMATION:

Availability of Documents

Individuals wishing copies of the application, proposed Agreement, and EAS should immediately contact the Service by telephone at (530) 842-5763 or by letter to the Yreka Fish and Wildlife Office [see ADDRESSES]. Copies of the proposed Agreement and EAS also are available for public inspection during regular business hours at the Yreka Fish and Wildlife Office [see ADDRESSES]. The information above will also be available at the following Web address: http://www.fws.gov/yreka.

Background

Under a Candidate Conservation Agreement with Assurances (CCAA), participating landowners voluntarily implement conservation activities on their property to benefit proposed species, candidate species, and species likely to become candidates in the near future. Under a CCAA, non-Federal property owners commit to implement mutually agreed upon conservation measures which, when combined with benefits that would be achieved if it is assumed that those conservation measures were to be implemented on other necessary properties, would preclude the need to list the covered species. In return for the landowner's proactive management, the Service provides an enhancement of survival permit under section 10(a)(1)(A) of the Act which, if the species were to become listed, would authorize the take of a specified number of individuals.

Section 9 of the Act and its implementing Federal regulations prohibit the take of animal species listed as endangered or threatened. Take is defined under the Act as to harass, harm, pursue, hunt, shoot, wound, kill, trap, capture or collect listed animal species, or attempt to engage in such conduct (16 U.S.C. 1532(19)). However, under section 10(a) of the Act, the Service may issue permits to authorize take of listed species. For enhancement of survival permits, that take must be “incidental” as defined by the Service's implementing regulations as take that is incidental to, and not the purpose of, carrying out an otherwise lawful activity (50 CFR 17.4). Regulations governing CCAAs and their section 10(a)(1)(A) permits are found in the Code of Federal Regulations at 50 CFR 17.22(d) and 50 CFR 17.32(d).

The fisher is a candidate for listing under the Act. The extent of past timber harvest has been identified as one of the potential causes of fisher decline. Timber harvest has contributed to the loss of habitat, habitat fragmentation, and population isolation, which are current threats to the fisher. Removal or modification of mature and late-successional forest from large portions of the Sierra Nevada and Pacific Northwest has likely contributed to the significantly diminished distribution of fishers, within their historic range on the west coast.

The Agreement between the Applicant and the Service and the enhancement of survival permit are proposed for 20 years on the 160,000-acre Stirling Management Area located in Butte, Plumas, and Tehama Counties, California. The purpose of the proposed Agreement is to provide incentive for the Applicant to implement habitat conservation measures for fisher so as to increase the capability of the enrolled lands to support fisher. The amounts and spatial distribution of resting and denning habitat in this CCAA are necessarily experimental due to our level of uncertainty concerning the landscape habitat needs of fishers. The Applicants forestland management over the 20-year permit period is proposed to increase fisher resting and denning habitat on the enrolled forestlands in the future. An additional purpose of this CCAA is to provide incentive for the Applicant to accept translocated fisher onto the enrolled lands that historically contained fisher, but currently do not.

The permit would authorize incidental take of fisher consistent and associated with this CCAA, resulting from the otherwise lawful forest management activities on the Applicant's 160,000-acre Stirling Management Area. The covered forest management activities include felling and bucking timber, yarding timber, loading and landing operations, salvage of timber, transport of timber and rock, road construction and maintenance, rock pit construction and use, site preparation, tree planting, vegetation control, pre-commercial thinning and pruning, minor forest products, grazing, and fire suppression.

The Service has made a preliminary determination that approval of the proposed Agreement qualifies as a categorical exclusion under NEPA, as provided by the Department of the Interior Manual (516 DM 2, Appendix 1 and 516 DM 8). Determination of a categorical exclusion is based on the following three criteria: (1) Implementation of the proposed Agreement would result in minor or negligible effects on federally listed, proposed, and candidate species and their habitats; (2) implementation of the proposed Agreement would result in minor or negligible effects on other environmental values or resources; and (3) impacts of the proposed Agreement, considered together with the impacts of other past, present and reasonably foreseeable similarly situated projects, would not result, over time, in cumulative effects to environmental values or resources which would be considered significant.

Based upon this preliminary determination, we do not intend to prepare further NEPA documentation. We will consider public comments in making the final determination on whether to prepare such additional documentation.

Before including your address, phone number, e-mail address, or other personal identifying information in your comment, you should be aware that your entire comment—including your personal identifying information—may be made publicly available at any time. While you can ask us in your comment to withhold your personal identifying information from public review, we cannot guarantee that we will be able to do so.

This notice is provided pursuant to section 10(c) of the Act. We will evaluate the permit application, the proposed Agreement, and comments submitted thereon to determine whether the application meets the requirements of section 10(a) of the Act. If the requirements are met, we will enter into the Agreement and issue a section 10(a)(1)(A) enhancement of survival permit under the Act to Sierra Pacific Industries for the incidental take of fisher from forestry activities on the Stirling Management Area in Butte, Plumas and Tehama Counties, California.

Dated: October 2, 2007.
Phil Detrich,
Field Supervisor, Yreka Fish and Wildlife Office, California/Nevada Operations Office, Yreka, California.

[FR Doc. E7-19893 Filed 10-9-07; 8:45 am]

BILLING CODE 4310-55-P